DEPARTMENT OF JUSTICE

[OMB Number 1121-0269]

Agency Information Collection Activities: Proposed Collection; Comments Requested; Reinstatement, With Change, of a Previously Approved Collection for Which Approval Has Expired: 2020 Census of Publicly Funded Forensic Crime Laboratories (CPFFCL)

AGENCY: Bureau of Justice Statistics, Department of Justice.

ACTION: 60-day notice.

SUMMARY: The Department of Justice (DOJ), Office of Justice Programs, Bureau of Justice Statistics, will be submitting the following information collection request to the Office of Management and Budget (OMB) for review and approval in accordance with the Paperwork Reduction Act of 1995.

DATES: Comments are encouraged and will be accepted for 60 days until March 15, 2021.

FOR FURTHER INFORMATION CONTACT: If you have additional comments especially on the estimated public burden or associated response time, suggestions, or need a copy of the proposed information collection instrument with instructions or additional information, please contact Connor Brooks, Statistician, Law Enforcement Statistics Unit, Bureau of Justice Statistics, 810 Seventh Street NW, Washington, DC 20531 (email: Connor.Brooks@usdoj.gov; phone: 202-514-8633).

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

(1) Type of Information Collection: Reinstatement of the Census of Publicly Funded Forensic Crime Laboratories, with changes, of a previously approved collection for which approval has expired.

(2) The Title of the Form/Collection: 2020 Census of Publicly Funded Forensic Crime Laboratories.

(3) The agency form number, if any, and the applicable component of the Department sponsoring the collection: The form number is CFCL-20. The applicable component within the Department of Justice is the Bureau of Justice Statistics, Office of Justice Programs.

(4) Affected public who will be asked or required to respond, as well as a brief abstract:

This information collection is a census of federal, state, and local publicly funded forensic crime laboratories that analyze criminal evidence. This data collection follows the 2014 study and will collect information on personnel, budgets, workloads, policies, and procedures of crime laboratories. BJS plans to field the 2020 CPFFCL from May to October 2021. The census form was assessed by practitioners and subject matter experts to update it from the 2014 form and ensure its relevance to forensic crime laboratories as well as reduce respondent burden. The form was then cognitively tested with 23 forensic crime laboratories of different sizes, regions, and government levels. In addition to collecting detailed data for the 2020 reference year, CPFFCL will also collect summary data for the 2019 reference year.

(5) An estimate of the total number of respondents and the amount of time estimated for an average respondent to respond: A projected 500 respondents will take an average of 2.5 hours each to complete form, including time to research or find information not readily available. BJS expects additional time will be needed for data quality follow-up for up to 250 respondents, which will require another 15 minutes of respondent's time.

(6) An estimate of the total public burden (in hours) associated with the collection: There are an estimated 1312.5 total burden hours associated with this information collection.

If additional information is required contact: Melody Braswell, Department Clearance Officer, United States Department of Justice, Justice Management Division, Policy and Planning Staff, Two Constitution Square, 145 N Street NE, 3E.405A, Washington, DC 20530.

Dated: January 11, 2021.
Melody Braswell,
Department Clearance Officer for PRA,U.S. Department of Justice.

[FR Doc. 2021-00746 Filed 1-13-21; 8:45 am]

BILLING CODE 4410-02-P